DEPARTMENT OF ENERGY

Federal Energy Regulatory Commission

Combined Notice of Filings # 1

August 4, 2006.

Take notice that the Commission received the following electric corporate filings:

Docket Numbers: EC06-145-000; ER06-1307-000.

Applicants: Rockingham Power, L.L.C.; Duke Power Company LLC; Dynegy Power Marketing, Inc.

Description: Rockingham Power, LLC et al submit an application for authorization of disposition of jurisdictional assets pursuant to Section 203 and a notice of termination of rate schedules.

Filed Date: 7/28/2006.

Accession Number: 20060803-0005.

Comment Date: 5 p.m. Eastern Time on Friday, August 18, 2006.

Take notice that the Commission received the following exempt wholesale generator filings:

Docket Numbers: EG06-67-000.

Applicants: Snowflake White Mountain Power, LLC.

Description: Snowflake White Mountain Power, LLC submits its notice of Self-Certification of Exempt Wholesale Generator Status.

Filed Date: 7/31/2006.

Accession Number: 20060804-0089.

Comment Date: 5 p.m. Eastern Time on Monday, August 21, 2006.

Docket Numbers: EG06-68-000.

Applicants: CalPeak Power LLC.

Description: CalPeak Power LLC submits its Notice of Self-Certification of Exempt Wholesale Generator Status.

Filed Date: 8/2/2006.

Accession Number: 20060804-0096.

Comment Date: 5 p.m. Eastern Time on Wednesday, August 23, 2006.

Take notice that the Commission received the following electric rate filings

Docket Numbers: ER96-2504-015; ER05-1367-004; ER05-1368-004; E05-1369-006; ER00-826-007; ER00-828-007; ER98-421-018; ER98-4055-015; ER01-1337-010; ER02-177-011; ER03-1212-009; ER96-110-021; ER99-2774-014; ER03-956-010; ER03-185-008; ER03-17-008; ER01-545-010; ER00-1783-010; ER02-795-008.

Applicants: Cinergy Gas & Electric Company; PSI Energy, Inc.; Union Light Heat & Power Company; Cinergy Marketing & Trading, LP; Brownsville Power I, L.L.C.; Caledonia Power I, L.L.C.; CinCap IV, LLC; CinCap V, LLC; Cinergy Capital & Trading, Inc.; Cinergy Power Investments, Inc.; St. Paul Cogeneration, LLC; Cinergy Operating Companies; Duke Power Company LLC; Duke Energy Trading and Marketing, L.L.C.; Duke Energy Marketing America, LLC; Duke Energy Fayette, LLC; Duke Energy Hanging Rock, LLC; Duke Energy Lee, LLC; Duke Energy Vermillion, LLC; Duke Energy Washington, LLC.

Description: Duke Energy Corporation on behalf of The MBR Companies submit a notice of a non-material change in status in respect to their authority to engage in wholesale sales of capacity, energy, and ancillary services at market-based rates.

Filed Date: 7/28/2006.

Accession Number: 20060803-0001.

Comment Date: 5 p.m. Eastern Time on Friday, August 18, 2006.

Docket Numbers: ER99-1293-007.

Applicants: Monmouth Energy, Inc.

Description: Compliance Filing of FERC's Order Issued 6/30/2006 of Monmouth Energy, Inc.

Filed Date: 7/28/2006.

Accession Number: 20060728-5102.

Comment Date: 5 p.m. Eastern Time on Friday, August 11, 2006.

Docket Numbers: ER00-2268-019; ER99-4124-016; ER00-3312-017; ER99-4122-018.

Applicants: Pinnacle West Capital Corporation; Arizona Public Service Company; Pinnacle West Energy Company; APS Energy Services Company, Inc.

Description: Pinnacle West Capital Corp. et al., submits a supplemental compliance filing in response to the Commission's 4/17/06 Order.

Filed Date: 7/31/2006.

Accession Number: 20060728-5110.

Comment Date: 5 p.m. Eastern Time on Monday, August 21, 2006.

Docket Numbers: ER01-48-007.

Applicants: Powerex Corp.

Description: Powerex Corp submits its 2006 triennial market power analysis in support of its continued authority to sell power at market-based rates.

Filed Date: 7/31/2006.

Accession Number: 20060802-0150.

Comment Date: 5 p.m. Eastern Time on Monday, August 21, 2006.

Docket Numbers: ER06-1270-000.

Applicants: Central Hudson Gas & Electric Corporation.

Description: Central Hudson Gas & Electric Corporation submits revised FERC Rate Schedule 202, Sixth Revised Sheet Nos. 9-12.

Filed Date: 7/21/2006.

Accession Number: 20060725-0059.

Comment Date: 5 p.m. Eastern Time on Friday, August 11, 2006.

Docket Numbers: ER06-1306-000.

Applicants: Pacific Gas and Electric Company.

Description: Pacific Gas and Electric Co submits two Large Facility Agreements and fifteen Small Facility Agreements with the City and County of San Francisco designated as Revised Rate Schedule FERC 114.

Filed Date: 7/31/2006.

Accession Number: 20060802-0009.

Comment Date: 5 p.m. Eastern Time on Monday, August 21, 2006.

Docket Numbers: ER06-1319-000.

Applicants: Northern States Power Company (Wisconsin).

Description: Northern States Power Co submits changes in rates, rate design and terms and conditions applicable to service to ten wholesale electric customers, the Village of Bangor, WI et al, effective 10/1/06.

Filed Date: 7/31/2006.

Accession Number: 20060802-0049.

Comment Date: 5 p.m. Eastern Time on Monday, August 21, 2006.

Docket Numbers: ER06-1320-000.

Applicants: Wisconsin Electric Power Company.

Description: Wisconsin Electric Power Co submits its 2006 Test Year Wholesale Rate Adjustment for certain customers to take effect 1/1/07 or 5/1/07.

Filed Date: 8/1/2006.

Accession Number: 20060803-0074.

Comment Date: 5 p.m. Eastern Time on Tuesday, August 22, 2006.

Docket Numbers: ER06-1321-000.

Applicants: Westar Energy, Inc.

Description: Westar Energy, Inc submits its Seventh Revised Sheet 11 of Second Revised FERC Rate Schedule 300, Agreement w/ Missouri Joint Municipal Electric Utility.

Filed Date: 8/1/2006.

Accession Number: 20060802-0155.

Comment Date: 5 p.m. Eastern Time on Tuesday, August 22, 2006.

Docket Numbers: ER06-1331-000.

Applicants: CalPeak Power LLC.

Description: Calpeak Power, LLC submits an application for acceptance of their proposed FERC Electric Tariff, Original Volume 1 under ER06-1331.

Filed Date: 8/2/2006.

Accession Number: 20060804-0095.

Comment Date: 5 p.m. Eastern Time on Wednesday, August 23, 2006.

Docket Numbers: ER06-1322-000.

Applicants: Westar Energy, Inc.

Description: Westar Energy, Inc submits its Sixth Revised Sheet 11 to Rate Schedule 303, Agreement w/ Missouri Joint Municipal Electric Utility Commission.

Filed Date: 8/1/2006.

Accession Number: 20060802-0156.

Comment Date: 5 p.m. Eastern Time on Tuesday, August 22, 2006.

Docket Numbers: ER06-1323-000.

Applicants: Westar Energy, Inc.

Description: Westar Energy, Inc submits its Sixth Revised Sheet 9 to Rate Schedule 302, Agreement w/Missouri Joint Municipal Electric Utility Commission.

Filed Date: 8/1/2006.

Accession Number: 20060802-0154.

Comment Date: 5 p.m. Eastern Time on Tuesday, August 22, 2006.

Docket Numbers: ER06-1324-000.

Applicants: New England Power Pool Participants Committee.

Description: New England Power Pool Participants Committee submits counterpart signature pages of the NEPOOL Agreement dated 9/1/71 with Caithness New England Services Co., LLC, et al.

Filed Date: 8/1/2006.

Accession Number: 20060802-0151.

Comment Date: 5 p.m. Eastern Time on Tuesday, August 22, 2006.

Docket Numbers: ER06-1327-000.

Applicants: Florida Power & Light Company.

Description: Florida Power & Light Co submits the Original Service Agreement No. 244 for Long-Term Firm Point-to-Point Transmission Service w/ the City of Homestead, Florida.

Filed Date: 8/1/2006.

Accession Number: 20060802-0159.

Comment Date: 5 p.m. Eastern Time on Tuesday, August 22, 2006.

Docket Numbers: ER06-1328-000.

Applicants: Central Illinois Public Service Company; Union Electric Company; Ameren Energy Generating Company.

Description: Ameren Parties submits its Third Amendment to the Joint Dispatch Agreement, effective 9/29/06, which changes the termination provision of the agreement.

Filed Date: 8/1/2006.

Accession Number: 20060802-0157.

Comment Date: 5 p.m. Eastern Time on Tuesday, August 22, 2006.

Docket Numbers: ER06-1329-000.

Applicants: Idaho Power Company.

Description: Idaho Power Co submits notice of cancellations of Service Agreement No 6 et al, to be made effective 10/1/06.

Filed Date: 8/1/2006.

Accession Number: 20060803-0002.

Comment Date: 5 p.m. Eastern Time on Tuesday, August 22, 2006.

Docket Numbers: ER06-1332-000.

Applicants: Pacific Gas & Electric Company.

Description: Pacific Gas and Electric Co submits the revised rate sheets for the two Reliability Must-Run Service Agreements with California Independent System Operator Corporation.

Filed Date: 7/11/2006.

Accession Number: 20060713-0033.

Comment Date: 5 p.m. Eastern Time on Monday, August 14, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-13732 Filed 8-18-06; 8:45 am]

BILLING CODE 6717-01-P